SMALL BUSINESS ADMINISTRATION

[Disaster Declaration # 11705 and # 11706]

Minnesota Disaster Number MN-00021

AGENCY: U.S. Small Business Administration.

ACTION: Amendment 4.

SUMMARY: This is an amendment of the Presidential declaration of a major disaster for Public Assistance Only for the State of Minnesota (FEMA—1830—DR), dated 04/09/2009.

Incident: Severe Storms and Flooding.

Incident Period: 03/16/2009 and continuing.

DATES: Effective Date: 05/06/2009.

Physical Loan Application Deadline Date: 06/08/2009.

Economic Injury (EIDL) Loan Application Deadline Date: 01/09/2010.

ADDRESSES: Submit completed loan applications to:

U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the President's major disaster declaration for Private Non-Profit organizations in the State of Minnesota, dated 04/09/2009, is hereby amended to include the following areas as adversely affected by the disaster.

Primary Area: The Red Lake Band of Chippewa Indians

All other information in the original declaration remains unchanged.

(Catalog of Federal Domestic Assistance Numbers 59002 and 59008)

James E. Rivera,
Acting Associate Administrator for Disaster Assistance.

[FR Doc. E9-11282 Filed 5-13-09; 8:45 am]

BILLING CODE 8025-01-P